DEPARTMENT OF DEFENSE

Department of the Army, U.S. Army Corps of Engineers

Notice of Availability of The Great Lakes and Mississippi River Interbasin Study—Brandon Road Draft Integrated Feasibility Study and Environmental Impact Statement—Will County, Illinois

AGENCY: Department of the Army, U.S. Army Corps of Engineers.

ACTION: Notice of availability.

SUMMARY: The U.S. Army Corps of Engineers (USACE) has posted The Great Lakes and Mississippi River Interbasin Study—Brandon Road Draft Integrated Feasibility Study and Environmental Impact Statement—Will County, Illinois (GLMRIS-Brandon Road Report) on http://glmris.anl.gov. The GLMRIS—Brandon Road Report presents a plan to address the transfer of aquatic nuisance species (ANS) from the Mississippi River Basin to the Great Lakes Basin through an aquatic connection in the Chicago Area Waterway System. The purpose of this study is to evaluate structural and nonstructural options and technologies near the Brandon Road Lock and Dam to prevent the upstream transfer of ANS. USACE analyzed and evaluated available controls to address ANS of concern and formulated alternatives specifically for the Brandon Road site. USACE also evaluated the potential impacts of the alternatives and ways to minimize such impacts.

USACE conducted the GLMRIS-Brandon Road Study in consultation with other Federal agencies, Native American tribes, state agencies, local governments, non-governmental organizations, and industry.

DATES: There will be a 45-day public review period for comments on this document beginning Monday August 7, 2017, through Thursday September 21, 2017. Comments will be accepted through the GLMRIS project Web site at http://glmris.anl.gov, by letter and at public meetings. Public meeting dates and locations are to be determined. See SUPPLEMENTARY INFORMATION section for instructions on how to submit public comments.

FOR FURTHER INFORMATION CONTACT: For further information and/or questions about GLMRIS-Brandon Road, please contact Andrew Leichty, Program Manager, by mail: U.S. Army Corps of Engineers, Rock Island District, Clock Tower Building (ATTN: Leichty), P.O. Box 2004, Rock Island, IL 61204-2004, by phone: 309-794-5399; or by email: Andrew.L.Leichty@usace.army.mil.

For media inquiries, please contact Allen Marshall, District Spokesperson, by mail: U.S. Army Corps of Engineers, Rock Island District, Clock Tower Building (ATTN: Marshall), P.O. Box 2004, Rock Island, IL 61204-2004, by phone: 309-794-5204; or by email: Allen.A.Marshall@usace.army.mil.

SUPPLEMENTARY INFORMATION:

1. Background

The GLMRIS authority directed USACE to identify the range of options and technologies available to prevent the spread of ANS between the Great Lakes and Mississippi River Basins through the Chicago Sanitary and Ship Canal and other aquatic pathways. The goal of the GLMRIS-Brandon Road Study is to prevent the upstream transfer of ANS while minimizing impacts to existing waterways uses and users. USACE conducted the GLMRIS-Brandon Road Study in consultation with other Federal agencies, Native American tribes, state agencies, local governments, non-governmental organizations, and industry.

2. The GLMRIS-Brandon Road Report

The GLMRIS-Brandon Road Report identified six potential alternatives including no new action (continuing current efforts), a nonstructural alternative, three technology alternatives using an electric barrier and/or complex noise, and lock closure. The effectiveness of these alternatives was considered against the three different modes of ANS transport—swimming, floating, and hitchhiking. Selection of the Tentatively Selected Plan (TSP) required careful evaluation of each alternative's 1. reduction in the probability of establishment in the Great Lakes Basin; 2. life safety risk; 3. system performance robustness; and 4. costs, which include construction, mitigation, operation and maintenance, repair, replacement and rehabilitation, and navigation impacts. The evaluation also included careful consideration of cost effectiveness and incremental cost analyses; significance of the Great Lakes Basin ecosystem; and acceptability, completeness, efficiency, and effectiveness. The GLMRIS-Brandon Road Report identifies potential adverse impacts that alternatives may have on existing uses and users of the waterways. Based on the results of the evaluation and comparison of the alternatives, the TSP is the Technology Alternative—Complex Noise with Electric Barrier, which includes the following measures: Nonstructural measures, complex noise, water jets, engineered channel, electric barrier, flushing lock, boat ramps, and mooring area.

3. Public Participation

USACE will accept comments related to the GLMRIS-Brandon Road Report until September 21, 2017. Comments may be submitted in the following ways:

• GLMRIS Project Web site: Use the web comment function found at http://glmris.anl.gov.

• Mail: Send comments to U.S. Army Corps of Engineers, Chicago District, ATTN: GLMRIS-Brandon Road Comments, 231 S. LaSalle St., Suite 1500, Chicago, IL 60604. Comments must be postmarked by September 21, 2017.

• Public Meetings: Public meeting dates, times and locations are to be determined; USACE asks those wanting to make oral comments to register on the GLMRIS project Web site at http://glmris.anl.gov. Each individual wishing to make oral comments shall be given three (3) minutes, and a stenographer will document oral comments.

Public meetings will begin with a brief presentation regarding the study and the formulated alternatives followed by an oral comment period. During each meeting, USACE personnel will also collect written comments on comment cards. Additional information about public meetings including dates, times and locations will be posted on the GLMRIS project Web site at http://glmris.anl.gov as soon as that information is available.

Comments, including the names and addresses of those that comment, received during the comment period will be posted on the GLMRIS project Web site. Comments submitted anonymously will be accepted, considered, and posted. Commenters may indicate that they do not wish to have their name or other personal information made available on the Web site. However, USACE cannot guarantee that information withheld from the Web site will be maintained as confidential. Persons requesting confidentially should be aware that, under the Freedom of Information Act, confidentiality may be granted in only limited circumstances.

4. Authority

This action is being undertaken pursuant to the Water Resources and Development Act of 2007, Section 3061(d), Public Law 110-114, and the National Environmental Policy Act of 1969 (NEPA), 42 U.S.C. 4321, et seq., as amended.

Dated: July 28, 2017.
Dennis W. Hamilton,
Chief, Programs and Project Management Division.

[FR Doc. 2017-16597 Filed 8-4-17; 8:45 am]

BILLING CODE 3720-58-P